NUCLEAR REGULATORY COMMISSION

[NRC-2009-0268]

Notice of Availability of Interim Staff Guidance Documents for Spent Fuel Storage Casks

AGENCY: Nuclear Regulatory Commission.

ACTION: Notice of availability.

FOR FURTHER INFORMATION CONTACT: Matthew Gordon, Structural Mechanics and Materials Branch, Division of Spent Fuel Storage and Transportation Division, Office of Nuclear Material Safety and Safeguards, U.S. Nuclear Regulatory Commission, Washington, DC 20005-0001; telephone: 301-492-3331; fax: 301-492-3342; e-mail: matthew.gordon@nrc.gov.

SUPPLEMENTARY INFORMATION:

I. Introduction

The U.S. Nuclear Regulatory Commission (NRC) has prepared an Interim Staff Guidance (ISG) No. 23 document, entitled “Application of ASTM Standard Practice C1671-07 when performing technical reviews of spent fuel storage and transportation packaging licensing actions.” This ISG document would provide guidance to the NRC staff when reviewing licensee integrated safety analyses, license or Certificate of Compliance applications or amendment requests, or other related activities for dry cask storage systems under Title 10 of the Code of Federal Regulations (10 CFR) part 71 and 10 CFR part 72.

II. Further Information

Documents related to this action are available electronically at the NRC's Electronic Reading Room at http://www.nrc.gov/reading-rm/adams.html. From this site, you can access the NRC's Agencywide Documents Access and Management System (ADAMS), which provides text and image files of NRC's public documents. The ADAMS accession numbers for the documents related to this notice are provided in the following table. If you do not have access to ADAMS or if there are problems in accessing the documents located in ADAMS, contact the NRC Public Document Room (PDR) reference staff at 1-800-397-4209, 301-415-4737, or by e-mail to pdr.resource@nrc.gov.

ADAMS document | ADAMS accession No.
Interim Staff Guidance-23 | ML103130171

These documents may also be viewed electronically on the public computers located at the NRC's PDR, O-1 F21, One White Flint North, 11555 Rockville Pike, Rockville, Maryland 20852. The PDR reproduction contractor will copy documents for a fee. Comments and questions on ISG-23 should be directed to Matthew Gordon, Structural Mechanics and Materials Branch, Division of Spent Fuel Storage and Transportation, Office of Nuclear Materials Safety and Safeguards, U.S. Nuclear Regulatory Commission, Washington, DC 20005-0001. Comments can also be submitted by telephone, fax, or e-mail to the following: Telephone: 301-492-3331; fax number: 301-492-3331; e-mail: matthew.gordon@nrc.gov.

Dated at Rockville, Maryland, this 18th day of January, 2011.
For the U.S. Nuclear Regulatory Commission.
Michele Sampson,
Acting Chief, Structural Mechanics and Materials Branch, Division of Spent Fuel Storage and Transportation, Office of Nuclear Material Safety and Safeguards.

[FR Doc. 2011-3608 Filed 2-16-11; 8:45 am]

BILLING CODE 7590-01-P